ENVIRONMENTAL PROTECTION AGENCY (EPA)

48 CFR Parts 1511 and 1552

[OARM Docket No. 2002-0001; FRL-7824-7]

Acquisition Regulation: Background Checks for Environmental Protection Agency Contractors Performing Services On-Site

ACTION: Proposed rule; withdrawal.

SUMMARY: This action withdraws a proposed rulemaking to amend the EPA Acquisition Regulation (EPAAR) by adding a clause which would have required contractors (and subcontractors) to perform background checks and make suitability determinations for contractor (and subcontractor) employees performing services on or within Federally-owned or leased space or facilities (68 FR 2988, January 22, 2003). The public comments EPA received objected not only to the proposed clause's broad application, but also to its key substantive provisions. EPA has decided to withdraw this proposed EPAAR clause, and plans instead to incorporate a narrowly tailored background check requirement in the Agency's emergency response contracts' statements of work. Currently, this category of contracts consists of Superfund Technical Assistance and Removal Team (START), Emergency and Rapid Response Services (ERRS), and Response Engineering and Analytical Contract (REAC). In the future this requirement may be included in other types of contracts.

FOR FURTHER INFORMATION CONTACT: Paul Schaffer, U.S. EPA, Office of Acquisition Management, Mail Code (3802R), Environmental Protection Agency, 1200 Pennsylvania Avenue, NW., Washington, DC 20460; telephone number: (202) 564-4366; fax number (202) 565-2475; e-mail address: schaffer.paul@epa.gov.

SUPPLEMENTARY INFORMATION: Regulatory Impact: Because this action withdraws a notice of proposed rulemaking, it is neither a proposed nor a final rule and therefore is not covered under Executive Order 12866, the Regulatory Flexibility Act, or other Executive Orders and statutes that generally apply to rulemakings.

List of Subjects in 48 CFR Parts 1511 and 1552

Environmental protection, Government procurement.

The Withdrawal

In consideration of the foregoing, the Notice of Proposed Rulemaking, OARM Docket No. 2002-0001, as published in the Federal Register on January 22, 2003 (68 FR 51737), is hereby withdrawn.

Dated: September 30, 2004.
Judy S. Davis,
Director, Office of Acquisition Management.

[FR Doc. 04-22483 Filed 10-5-04; 8:45 am]

BILLING CODE 6560-50-P